FEDERAL MARITIME COMMISSION

Ocean Transportation Intermediary License Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR part 515.

License No. | Name/address | Date reissued
018562F | Global Tassili Transport Services, Inc., 8206 Fairbanks No. Houston, Houston, TX 77064 | April 13, 2006.
011325N | Slade Shipping Inc., 14811 St. Mary's Lane, Suite 265, Houston, TX 77079 | January 5, 2006.

Sandra L. Kusumoto,
Director, Bureau of Certification and Licensing.

[FR Doc. E6-8501 Filed 5-31-06; 8:45 am]

BILLING CODE 6730-01-P